ENVIRONMENTAL PROTECTION AGENCY

[FRL-6734-1]

Proposed Settlement Agreement, Clean Air Act Citizen Suit

AGENCY: Environmental Protection Agency.

ACTION: Notice of proposed consent decree; request for public comment.

SUMMARY: In accordance with section 113(g) of the Clean Air Act, as amened (“Act”), 42 U.S.C. 7413(g), notice is hereby given of a proposed consent decree, which was lodged with the United States District Court for the District of Columbia by the United States Environmental Protection Agency (“EPA”) on May 26, 1999, to address a lawsuit filed by the Midwest Ozone Group and the West Virginia Chamber of Commerce (collectively referred to as “MOG”). This lawsuit, which was filed pursuant to section 304(a) of the Act, 42 U.S.C. 7604(a), addresses EPA's alleged failure to meet mandatory deadlines under section 110(c) of the Act, 42 U.S.C. 7410(c), to promulgate federal implementation plans for certain areas establishing (1) attainment demonstrations; (2) inspection and maintenance (“I/M”) programs, and (3) 15% rate-of-progress (“ROP”) requirements. Midwest Ozone Group et. al., v. EPA, No. 1:00CV01047 (D.D.C.).

DATES: Written comments must be received by August 11, 2000.

ADDRESSES: Written comments should be sent to Jan M. Tierney, Air and Radiation Law Office (2344A), Office of General Counsel, U.S. Environmental Protection Agency, 1200 Pennsylvania Avenue, NW., Washington, DC 20460. Copies of the proposed consent decree are available from Phyllis J. Cochran, (202) 564-7606. A copy of the proposed consent decree was lodged with the Clerk of the United States District Court for the District of Columbia on May 26, 2000.

SUPPLEMENTARY INFORMATION: MOG alleges that EPA has a mandatory duty to promulgate federal implementation plans (“FIPs”) establishing (1) attainment demonstrations for the Greater Connecticut ozone nonattainment area; the Springfield, Massachusetts ozone nonattainment area; and the New York and Connecticut portions of the New York-Northern New Jersey-Long Island ozone nonattainment area; (2) I/M programs for Portland, Maine; Providence, Rhode Island; and the portions of the Boston-Lawrence-Worcester and Portsmouth-Dover-Rochester ozone nonattainment areas located in New Hampshire; and (3) a 15% ROP program for the Springfield, Massachusetts Ozone nonattainment area.

The proposed consent decree provides, in part, that EPA will promulgate full attainment demonstration FIPs by May 15, 2001 for the Greater Connecticut and Springfield ozone nonattainment areas if EPA has not fully approved attainment demonstration SIPs for each area as of that date. The consent decree provides that EPA will promulgate full attainment demonstration FIPs for the New York and Connecticut portions of the New York-Northern New Jersey-Long Island ozone nanattaiinment by June 14, 2002 if EPA has not fully approved attainment demonstration SIPS for each area as of that date.

This portion of the consent decree addresses the same issues for these four areas as is addressed in a partial consent decree with Natural Resources Defense Council, et al., for which EPA published notice on December 21, 1999, 64 FR 71453, and that was entered into by the parties on May 31, 2000. The FIP proposal and promulgation dates in the two consent decrees are consistent.

The consent decree also provides that EPA will promulgate I/M FIPs for four ozone nonattainment areas by October 31, 2001 if EPA has not fully approved enhanced I/M SIPs for each area by that date. The four areas are: Portland, Maine; Providence, Rhode Island; and the portions of the Boston-Lawrence-Worcester and Portsmouth-Dover-Rochester ozone nonattainment areas located in New Hampshire.

Finally, the consent decree provides that EPA will promulgate a 15% ROP FIP for the Springfield, Massachusetts ozone nonattainment area by April 2, 2001 if EPA has not fully approved a 15% ROP SIP for the area by that date.

For a period of thirty (30) days following the date of publication of this notice, the Agency will receive written comments relating to the proposed consent decree from persons who were not named as parties or interveners to the litigation in question. EPA or the Department of Justice may withdraw or withhold consent to the proposed consent decree if the comments disclose facts or considerations that indicate that such consent is inappropriate, improper, inadequate, or inconsistent with the requirements of the Act. Unless EPA or the Department of Justice determine, following the comment period, that consent is inappropriate, the final consent decree will be entered with the court and will establish deadlines for promulgation of federal implementation plans in the absence of approved state plans.

Dated: June 23, 2000.
Gary S. Guzy,
General Counsel.

[FR Doc. 00-17616 Filed 7-11-00; 8:45 am]

BILLING CODE 6560-50-M